ENVIRONMENTAL PROTECTION AGENCY

[FRL OP-OFA-074]

Environmental Impact Statements; Notice of Availability

Responsible Agency: Office of Federal Activities, General Information 202-564-5632 or https://www.epa.gov/nepa.

Weekly Receipt of Environmental Impact Statements (EIS)

Filed June 12, 2023 10 a.m. EST Through June 16, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230076, Draft, HCIDLA, CA, One San Pedro Specific Plan Draft EIR/EIS, Comment Period Ends: 08/21/2023, Contact: Jinderpal Bhandal 818-601-1169.

EIS No. 20230077, Draft, USFS, MT, Stillwater Mining Company, East Boulder Mine Amendment 004 Expansion EIS, Comment Period Ends: 08/09/2023, Contact: Robert Grosvenor 406-848-7375.

Dated: June 16, 2023.
Cindy S. Barger,
Director, NEPA Compliance Division, Office of Federal Activities.

[FR Doc. 2023-13377 Filed 6-22-23; 8:45 am]

BILLING CODE 6560-50-P